DEPARTMENT OF COMMERCE

International Trade Administration

[A-533-838, A-570-892]

Carbazole Violet Pigment 23 from India and the People's Republic of China: Final Results of the Expedited Sunset Reviews of the Antidumping Duty Orders

AGENCY: Import Administration, International Trade Administration, Department of Commerce.

SUMMARY: On November 2, 2009, the Department initiated sunset reviews of the antidumping duty orders on carbazole violet pigment 23 (CVP 23) from India and the People's Republic of China (PRC) pursuant to section 751(c) of the Tariff Act of 1930, as amended (the Act). See Initiation of Five-Year (“Sunset”) Review, 74 FR 56593 (November 2, 2009) (Notice of Initiation). The Department has conducted expedited (120-day) sunset reviews of these orders pursuant to 19 CFR 351.218(e)(1)(ii)(C)(2). As a result of these sunset reviews, the Department finds that revocation of the antidumping duty orders would be likely to lead to continuation or recurrence of dumping as indicated in the “Final Results of Review” section of this notice.

EFFECTIVE DATE: March 16, 2010.

FOR FURTHER INFORMATION CONTACT: Bryan Hansen or Minoo Hatten, AD/CVD Operations, Office 5, Import Administration, International Trade Administration, U.S. Department of Commerce, 14th Street and Constitution Avenue, NW, Washington, DC 20230; telephone: (202) 482-3683 or (202) 482-1690, respectively.

SUPPLEMENTARY INFORMATION:

Background

On November 2, 2009, the Department initiated sunset reviews of the antidumping duty orders on CVP 23 from India and the PRC¹ pursuant to section 751(c) of the Act. See Notice of Initiation.

¹ On December 29, 2004, the Department published the following antidumping duty orders: Antidumping Duty Order: Carbazole Violet Pigment 23 From the People's Republic of China, 69 FR 77987 (December 29, 2004); Notice of Amended Final Determination of Sales at Less Than Fair Value and Antidumping Duty Order: Carbazole Violet Pigment 23 From India, 69 FR 77988 (December 29, 2004).

On November 10, 2009, the Department received a notice of intent to participate in these sunset reviews from Nation Ford Chemical Company and Sun Chemical Corporation (collectively, the domestic interested parties) within the 15-day period specified in 19 CFR 351.218(d)(1)(i). The domestic interested parties claimed interested-party status under section 771(9)(C) of the Act as producers of a domestic like product in the United States.

The Department received complete substantive responses to the Notice of Initiation from the domestic interested parties within the 30-day period specified in 19 CFR 351.218(d)(3)(i). The Department received no substantive responses from any respondent interested parties and no hearing was requested. On the basis of a notice of intent to participate and adequate substantive responses filed on behalf of the domestic interested parties and no responses filed on behalf of respondent interested parties and in accordance with section 751(c)(3)(B) of the Act and 19 CFR 351.218(e)(1)(ii)(C)(2), the Department is conducting expedited (120-day) sunset reviews of the antidumping duty orders on CVP 23 from India and the PRC.

Scope of the Orders

The product covered by the antidumping duty orders on CVP 23 from India and the PRC is CVP 23 identified as Color Index No. 51319 and Chemical Abstract No. 6358-30-1, with the chemical name of diindolo [3,2-b:3,2-m]² triphenodioxazine, 8,18-dichloro-5, 15-diethyl-5, 15-dihydro-, and molecular formula of C34H22Cl2N4O2. The subject merchandise includes the crude pigment in any form (e.g., dry powder, paste, wet cake) and finished pigment in the form of presscake and dry color. Pigment dispersions in any form (e.g., pigment dispersed in oleoresins, flammable solvents, water) are not included within the scope of the orders. The merchandise subject to the orders is classifiable under subheading 3204.17.90.40 of the Harmonized Tariff Schedule of the United States (HTSUS). Although the HTSUS subheading is provided for convenience and customs purposes, the written descriptions of the scope of the orders are dispositive.

² The bracketed section of the product description, [3,2-b:3’,2’-m], is not business-proprietary information. In this case, the brackets are simply part of the chemical nomenclature.

Analysis of Comments Received

All issues raised in these reviews are addressed in the “Issues and Decision Memorandum for the Expedited Sunset Reviews of the Antidumping Duty Orders on Carbazole Violet Pigment 23 from India and the People's Republic of China” from Acting Deputy Assistant Secretary John M. Andersen to Deputy Assistant Secretary Ronald K. Lorentzen, dated concurrently with this notice (Decision Memo), which is hereby adopted by this notice. The issues discussed in the Decision Memo include the likelihood of continuation or recurrence of dumping and the magnitude of the margins likely to prevail if the orders were revoked. Parties can find a complete discussion of all issues raised in these reviews and the corresponding recommendations in this public memorandum which is on file in the Central Records Unit, room 1117 of the main Department of Commerce building.

In addition, a complete version of the Decision Memo can be accessed directly on the Web at http://ia.ita.doc.gov/frn. The paper copy and electronic version of the Decision Memo are identical in content.

Final Results of Reviews

The Department determines that revocation of the antidumping duty orders on CVP 23 from India and the PRC would be likely to lead to a continuation or recurrence of dumping at the following weighted-average percentage margins:

Country | Company | Weighted-Average Margin (Percent)
India | Alpanil Industries Ltd. | 27.23
| Pidilite Industries Ltd. | 66.59
| All Others | 44.80
PRC | GoldLink Industries Co., Ltd. | 12.46
| Nantong Haidi Chemical Co., Ltd. | 57.07
| Trust Chem Co., Ltd. | 39.29
| Tianjin Hanchem International Trading Co., Ltd. | 85.41
| PRC-wide | 241.32

Notification Regarding APO

This notice serves as a reminder to parties subject to administrative protective order (APO) of their responsibility concerning the disposition of proprietary information disclosed under APO in accordance with 19 CFR 351.305. Timely written notification of the destruction of APO materials or conversion to judicial protective order is hereby requested. Failure to comply with the regulations and terms of an APO is a violation which is subject to sanction.

The Department is issuing and publishing the final results and notice in accordance with sections 751(c), 752(c), and 777(i)(1) of the Act.

Dated: March 9, 2010.
Ronald K. Lorentzen,
Deputy Assistant Secretary for Import Administration.

[FR Doc. 2010-5713 Filed 3-15-10; 8:45 am]

BILLING CODE 3510-DS-S